DEPARTMENT OF COMMERCE

National Institute of Standards and Technology

Open Meeting of the Internet of Things Advisory Board

AGENCY: National Institute of Standards and Technology (NIST).

ACTION: Notice of open meeting.

SUMMARY: The Internet of Things (IoT) Advisory Board will meet Tuesday, February 27 and Wednesday, February 28, 2024 from 11:00 a.m. until 5:00 p.m., eastern time. Both sessions will be open to the public.

DATES: The Internet of Things (IoT) Advisory Board will meet Tuesday, February 27 and Wednesday, February 28, 2024 from 11:00 a.m. until 5:00 p.m., eastern time.

ADDRESSES: The meeting will be virtual via Webex webcast hosted by the National Cybersecurity Center of Excellence (NCCoE) at NIST. Please note registration instructions under the SUPPLEMENTARY INFORMATION section of this notice.

FOR FURTHER INFORMATION CONTACT: Barbara Cuthill, Information Technology Laboratory, National Institute of Standards and Technology, Telephone: (301) 975-3273, Email address: barbara.cuthill@nist.gov.

SUPPLEMENTARY INFORMATION: Pursuant to the Federal Advisory Committee Act, as amended, 5 U.S.C. 1001 et seq., notice is hereby given that the IoT Advisory Board will hold open meetings on Tuesday, February 27 and Wednesday, February 28, 2024 from 11:00 a.m. until 5:00 p.m., eastern time. Both sessions will be open to the public. The IoT Advisory Board is authorized by section 9204(b)(5) of the William M. (Mac) Thornberry National Defense Authorization Act for Fiscal Year 2021 (Pub. L. 116-283) and advises the IoT Federal Working Group convened by the Secretary of Commerce pursuant to Section 9204(b)(1) of the Act on matters related to the Federal Working Group's activities. Details regarding the IoT Advisory Board's activities are available at https://www.nist.gov/itl/applied-cybersecurity/nist-cybersecurity-iot-program/internet-things-advisory-board.

The agenda for the February, 2024 meeting is expected to focus on reviewing final editing of the IoT Advisory Board's report for the IoT Federal Working Group and the recommendations in that report.

The recommendations and discussions are expected to focus on the specific focus areas for the report cited in the legislation and the charter:

• Smart traffic and transit technologies

• Augmented logistics and supply chains

• Sustainable infrastructure

• Precision agriculture

• Environmental monitoring

• Public safety

• Health care

In addition, the IoT Advisory Board may discuss other elements that the legislation called for in the report:

• whether adequate spectrum is available to support the growing Internet of Things and what legal or regulatory barriers may exist to providing any spectrum needed in the future;

• policies, programs, or multi-stakeholder activities that—

○ promote or are related to the privacy of individuals who use or are affected by the Internet of Things;

○ may enhance the security of the Internet of Things, including the security of critical infrastructure;

○ may protect users of the Internet of Things; and

○ may encourage coordination among Federal agencies with jurisdiction over the Internet of Things

Note that agenda items may change without notice. The final agendas will be posted on the IoT Advisory Board web page: https://www.nist.gov/itl/applied-cybersecurity/nist-cybersecurity-iot-program/internet-things-advisory-board.

Public Participation: Written comments and requests to present comments orally to the IoT Advisory Board from the public are invited and may be submitted electronically by email to Barbara Cuthill at the contact information indicated in the FOR FURTHER INFORMATION CONTACT section of this notice by 5 p.m. on the Tuesday, February 20, 2024 to allow distribution of written comments to IoT Advisory Board members prior to the meeting. Each IoT Advisory Board meeting agenda will include a period, not to exceed sixty minutes, for oral presentation of comments from the public. Oral presentation of comments from the public during this sixty-minute period will be accommodated on a first-come, first-served basis and limited to five minutes per person for oral presentation if requested by the commenter. Members of the public who wish to expand upon their submitted comments, those who had wished to present comments orally but could not be accommodated on the agenda, and those who were unable to attend the meeting via webinar, are invited to submit written statements. In addition, written statements are invited and may be submitted to the IoT Advisory Board at any time. All written statements should be directed to the IoT Advisory Board Secretariat, Information Technology Laboratory by email to: Barbara.Cuthill@nist.gov.

Admittance Instructions: Participants planning to attend via webinar must register via the instructions found on the IoT Advisory Board's web page at https://www.nist.gov/itl/applied-cybersecurity/nist-cybersecurity-iot-program/internet-things-advisory-board.

Tamiko Ford,
NIST Executive Secretariat.

[FR Doc. 2024-02289 Filed 2-5-24; 8:45 am]

BILLING CODE 3510-13-P